DEPARTMENT OF ENERGY

Federal Energy Regulatory Commission

[P-2195-011]

Portland General Electric Company, Portland, OR; Notice of Filing

July 18, 2005.

Take notice that the following person has been assigned to facilitate discussions among parties involved in the licensing of Portland General Electric Company's Clackamas hydroelectric project. Project impacts to salmonid species, water quality and related issues will be topics discussed.

Office of Energy Projects

Jim Hastreiter, (503) 552-2760.

The staff person listed above is separated from the advisory staff in this proceeding and will not participate as advisory staff in this proceeding.

Magalie R. Salas,
Secretary.

[FR Doc. E5-3924 Filed 7-21-05; 8:45 am]

BILLING CODE 6717-01-P